NATIONAL FOUNDATION ON THE ARTS AND THE HUMANITIES

National Endowment for the Humanities

Meeting of Humanities Panel

AGENCY: National Endowment for the Humanities; National Foundation on the Arts and the Humanities.

ACTION: Notice of meeting.

SUMMARY: The National Endowment for the Humanities (NEH) will hold six meetings, by videoconference, of the Humanities Panel, a federal advisory committee, during June 2021. The purpose of the meetings is for panel review, discussion, evaluation, and recommendation of applications for financial assistance under the National Foundation on the Arts and the Humanities Act of 1965.

DATES: See SUPPLEMENTARY INFORMATION for meeting dates. The meetings will open at 8:30 a.m. and will adjourn by 5:00 p.m. on the dates specified below.

FOR FURTHER INFORMATION CONTACT: Elizabeth Voyatzis, Committee Management Officer, 400 7th Street SW, Room 4060, Washington, DC 20506; (202) 606-8322; evoyatzis@neh.gov.

SUPPLEMENTARY INFORMATION: Pursuant to section 10(a)(2) of the Federal Advisory Committee Act (5 U.S.C. App.), notice is hereby given of the following meetings:

1. Date: June 16, 2021

This video meeting will discuss applications on the topic of European Literature, for the Fellowships grant program, submitted to the Division of Research Programs.

2. Date: June 21, 2021

This video meeting will discuss applications for SHARP Grantmaking Programs for Organizations, submitted to Agency-wide Projects.

3. Date: June 23, 2021

This video meeting will discuss applications for NEH-Mellon Fellowships for Digital Publication, submitted to the Division of Research Programs.

4. Date: June 24, 2021

This video meeting will discuss applications for NEH-Mellon Fellowships for Digital Publication, submitted to the Division of Research Programs.

5. Date: June 25, 2021

This video meeting will discuss applications for NEH-Mellon Fellowships for Digital Publication, submitted to the Division of Research Programs.

6. Date: June 28, 2021

This video meeting will discuss applications for SHARP Grantmaking Programs for Individuals, submitted to Agency-wide Projects.

Because these meetings will include review of personal and/or proprietary financial and commercial information given in confidence to the agency by grant applicants, the meetings will be closed to the public pursuant to sections 552b(c)(4) and 552b(c)(6) of Title 5, U.S.C., as amended. I have made this determination pursuant to the authority granted me by the Chairman's Delegation of Authority to Close Advisory Committee Meetings dated April 15, 2016.

Dated: May 10, 2021.
Elizabeth Voyatzis,
Committee Management Officer.

[FR Doc. 2021-10142 Filed 5-13-21; 8:45 am]

BILLING CODE 7536-01-P